DEPARTMENT OF COMMERCE

National Oceanic and Atmospheric Administration

[RTID 0648-XE713]

Marine Mammals; File No. 24378

AGENCY: National Marine Fisheries Service (NMFS), National Oceanic and Atmospheric Administration (NOAA), Commerce.

ACTION: Notice; receipt of application for permit amendment.

SUMMARY: Notice is hereby given that The University of Alaska Southeast, 1332 Seward Ave, Sitka, AK 99835 (Responsible Party: Jan Straley), has applied for an amendment to scientific research Permit No. 24378-01.

DATES: Written comments must be received on or before April 28, 2025.

ADDRESSES: The application and related documents are available for review by selecting “Records Open for Public Comment” from the “Features” box on the Applications and Permits for Protected Species home page, https://apps.nmfs.noaa.gov, and then selecting File No. 24378 from the list of available applications. These documents are also available upon written request via email to NMFS.Pr1Comments@noaa.gov.

Written comments on this application should be submitted via email to NMFS.Pr1Comments@noaa.gov. Please include File No. 24378 in the subject line of the email comment.

Those individuals requesting a public hearing should submit a written request via email to NMFS.Pr1Comments@noaa.gov. The request should set forth the specific reasons why a hearing on this application would be appropriate.

FOR FURTHER INFORMATION CONTACT: Shannon Bent, or Courtney Smith, Ph.D., (301) 427-8401.

SUPPLEMENTARY INFORMATION: The subject amendment to Permit No. 24378-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222 through 226), and the Fur Seal Act of 1966, as amended (16 U.S.C. 1151 et seq.).

Permit No. 24378-01, issued on April 28, 2023 (87 FR 80527, December 30, 2022), authorizes the permit holder to conduct research on 18 species of cetaceans in Alaska, focusing on gray (Eschrichtius robustus), humpback (Megaptera novaeangliae), killer (Orcinus orca), and sperm (Physeter macrocephalus) whales. The permitted objectives are to further the biological understanding of Alaskan cetaceans by evaluating species abundance, population and stock structure, life history parameters, foraging behavior and prey specialization, social behavior, seasonal movements and migrations, and depredation interactions with longline fishing vessels. Research methods include close approach by vessels and UAS to conduct activities that may result in Level B harassment including photo-identification, behavioral observations, underwater photography/video, active acoustic sonar for prey mapping, biological sampling (prey samples, exhaled air, sloughed skin, feces), and collection of eDNA. The research also includes activities that may result in Level A harassment including biopsy sampling and tagging (suction-cup and dart/barb). Some marine mammal parts may be exported for analysis.

The permit holder is requesting the permit be amended to include authorization for an increase in annual take numbers of gray whales from 250 to 1,000 for activities that may cause Level B harassment. The purpose of the requested amendment is to account for an unanticipated increase in observed gray whale numbers in Sitka Sound, and to allow researchers to continue their efforts to better understand their population dynamics, demographics, body condition, and foraging strategies. The amendment would not change the permit duration; the permit will expire on April 30, 2026.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: March 25, 2025.
Julia M. Harrison,
Chief, Permits and Conservation Division, Office of Protected Resources, National Marine Fisheries Service.

[FR Doc. 2025-05388 Filed 3-27-25; 8:45 am]

BILLING CODE 3510-22-P